DEPARTMENT OF THE INTERIOR

Bureau of Land Management

[MT-070-1990-EX]

Notice of Availability of Draft Environmental Impact Statement for the Proposed “M” Pit Mine Expansion at Montana Tunnels Mine, Jefferson County, Montana

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), a Draft Environmental Impact Statement (DEIS) has been prepared for the Montana Tunnels Mine “M” Pit Mine Expansion administered by the Bureau of Land Management's Butte Field Office (BLM) and the Montana Department of Environmental Quality (DEQ). Operations on public lands are on mining claims located in accordance with the General Mining Law of 1872, as amended (30 U.S.C. 22 et seq.). The public is invited to review and comment on the range and adequacy of the draft alternatives and associated environmental effects. For comments to be most helpful, they should relate to specific concerns or conflicts that are within the legal responsibilities of the BLM and DEQ. The DEIS addresses alternatives associated with Montana Tunnels Mine “M” Pit Mine Expansion.

DATES: We will accept written comments on the Draft EIS for 60 days following the date the Environmental Protection Agency (EPA) publishes its Notice of Availability in the Federal Register. The last day of the written comment period may be identified at the Internet address below, after publication of the EPA Notice of Availability in the Federal Register. We will announce future meetings or hearings and any other public involvement activities at least 15 days in advance through public notices, media new releases, and/or mailings. The Draft EIS will be posted on the Montana DEQ Web site http://www.deq.state.mt.us.

ADDRESSES: You may submit comments by any of the following methods:

• E-mail: ghallsten@state.mt.us.

• Mail: Send written comments to “M” Pit Mine Expansion at Montana Tunnels Mine EIS, Greg Hallsten, Montana Department of Environmental Quality, Director's Office, PO Box 200901, Helena, MT 59620-0901.

• Fax: (406) 444-4386.

FOR FURTHER INFORMATION CONTACT: For further information and/or to request a copy of the document, contact: Greg Hallsten, Montana Department of Environmental Quality, PO Box 200901, Helena, MT 59620-0901 or David Williams, Bureau of Land Management, Butte Field Office, 106 N. Parkmont, Butte, MT 59701.

Documents related to this EIS, including public comments, will be posted on the Montana DEQ Web site (http://www.deq.state.mt.us) and may be published as part of the final EIS.

SUPPLEMENTARY INFORMATION: Before including your address, phone number, e-mail address, or other personal identifying information in your comment, you should be aware that your entire comment—including your personal identifying information—may be made publicly available at any time. While you can ask us in your comment to withhold your personal identifying information from public review, we cannot guarantee that we will be able to do so. All submissions from organizations and businesses, and from individuals identifying themselves as representatives or officials of organizations or businesses, will be available for public inspection in their entirety.

Dated: December 6, 2007.
Richard M. Hotaling,
Field Manager.

[FR Doc. E8-2242 Filed 2-7-08; 8:45 am]

BILLING CODE 4310-$$-P